DEPARTMENT OF THE INTERIOR

National Park Service

Resource Protection Study, Final Environmental Impact Statement, Curecanti National Recreation Area, Colorado

AGENCY: National Park Service, Department of the Interior.

ACTION: Notice of Availability of the Final Environmental Impact Statement (EIS) for the Resource Protection Study (RPS), Curecanti National Recreation Area.

SUMMARY: Pursuant to the National Environmental Policy Act of 1969, 42 U.S.C. 4332(2)(C), the National Park Service announces the availability of a Final Environmental Impact Statement for the Resource Protection Study for Curecanti National Recreation Area, Colorado.

Alternatives Evaluated

Alternative 1: No Action (Continuation of Existing Conditions)

Under Alternative 1, the No Action Alternative, NPS would continue to manage the natural, cultural, and recreational resources of Curecanti National Recreation Area (NRA), and associated facilities, pursuant to Reclamation law, NPS law, the 1965 Memorandum of Agreement between NPS and Reclamation (1965 MOA), and other applicable laws and regulations. Reclamation would continue to manage the three dams and reservoirs, power plants, access roads, and other related facilities, to meet the purposes of the Colorado River Storage Project Act (CRSP); would continue to manage the East Portal area to meet the purposes of the Uncompahgre Project; and would continue to have unrestricted access to their lands and land interests, water and water interests, and facilities; pursuant to Reclamation law, the 1965 MOA, and other applicable laws and regulations. There would be no significant change in the NRA boundary. However, a permanent NPS presence would not be assured under this alternative.

Alternative 2: Proposed Action

Under Alternative 2, the Proposed Action, NPS would manage the same natural, cultural, and recreational resources and facilities as Alternative 1, pursuant to Reclamation law, NPS law, including new legislation establishing the NRA with 10,040 acres of additional agreed-upon neighboring agency lands, a revised MOA with Reclamation, and other applicable laws and regulations. Reclamation would manage their same facilities and areas of responsibility as Alternative 1, and would have unrestricted access to their lands and land interests, water and water interests, and facilities, pursuant to Reclamation law, the revised NOA, and other applicable laws and regulations. NPS would be authorized to work in partnership with private landowners within a Conservation Opportunity Area of 24,300 acres outside the NRA boundary, to implement a variety of tools, including acquiring interests in land from willing landowners, such as fee simple acquisition and conservation easements, which would promote the long-term conservation of resources. A permanent NPS presence would be assured under this alternative, which is also the environmentally preferred alternative.

DATES: The National Park Service will execute a Record of Decision (ROD) no sooner than 30 days following publication by the Environmental Protection Agency of the Notice of Availability of the Final Environmental Impact Statement.

ADDRESSES: Information will be available for public inspection online at http://parkplanning.nps.gov/cure; in the office of the Superintendent, Curecanti National Recreation Area, 102 Elk Creek, Gunnison, CO 81230, Tel: (970) 641-2337; at the Montrose Public Lands Center, 2505 South Townsend Avenue, Montrose, CO 81401, Tel: (970) 240-5300; and at the following locations: Colorado State University Library in Fort Collins, Crawford Public Library, Delta Public Library, Gunnison County Library (Crested Butte and Gunnison branches), Hotchkiss Public Library, Mesa County Library in Grand Junction, Montrose Public Library, Paonia Public Library, and Western State College Library in Gunnison.

FOR FURTHER INFORMATION CONTACT: Connie Rudd, Superintendent, Curecanti National Recreation Area, 102 Elk Creek, Gunnison, CO 81230; Tel: (970) 641-2337 x. 220; E-mail: connie_rudd@nps.gov.

Dated: April 9, 2008.
Rick M. Frost,
Acting Regional Director, Intermountain Region, National Park Service.

Editorial Note: This document was received by the Office of the Federal Register on September 29, 2008.

[FR Doc. E8-23308 Filed 10-3-08; 8:45 am]

BILLING CODE 4310-EX-M